DEPARTMENT OF COMMERCE

Foreign-Trade Zones Board

[S-173-2019]

Foreign-Trade Zone 7—Mayaguez, Puerto Rico; Application for Subzone; Café Oro de Puerto Rico, Inc.; Lares, Puerto Rico

An application has been submitted to the Foreign-Trade Zones Board (the Board) by the Puerto Rico Industrial Development Company, grantee of FTZ 7, requesting subzone status for the facility of Café Oro de Puerto Rico, Inc., located in Lares, Puerto Rico. The application was submitted pursuant to the provisions of the Foreign-Trade Zones Act, as amended (19 U.S.C. 81a-81u), and the regulations of the Board (15 CFR part 400). It was formally docketed on August 22, 2019.

The proposed subzone (1.8429 acres) is located at Road 129, Km. 25.4, Piletas Ward, Lares, Puerto Rico. No authorization for production activity has been requested at this time. The proposed subzone would be subject to the existing activation limit of FTZ 7.

In accordance with the Board's regulations, Camille Evans of the FTZ Staff is designated examiner to review the application and make recommendations to the Executive Secretary.

Public comment is invited from interested parties. Submissions shall be addressed to the Board's Executive Secretary and sent to: ftz@trade.gov. The closing period for their receipt is October 7, 2019. Rebuttal comments in response to material submitted during the foregoing period may be submitted during the subsequent 15-day period to October 22, 2019.

A copy of the application will be available for public inspection in the “Reading Room” section of the Board's website, which is accessible via www.trade.gov/ftz.

For further information, contact Camille Evans at Camille.Evans@trade.gov or (202) 482-2350.

Dated: August 23, 2019.
Andrew McGilvray,
Executive Secretary.

[FR Doc. 2019-18554 Filed 8-27-19; 8:45 am]

BILLING CODE 3510-DS-P